FEDERAL COMMUNICATIONS COMMISSION

47 CFR Parts 1 and 54

[GN Docket No. 20-32; Report No. 3165; FRS 17372]

Petitions for Reconsideration of Action in Rulemaking Proceeding

AGENCY: Federal Communications Commission.

ACTION: Petitions for Reconsideration.

SUMMARY: Petitions for Reconsideration (Petitions) have been filed in the Commission's rulemaking proceeding by David A. LaFuria, on behalf of Smith Bagley, Inc., Russell D. Lukas, on behalf of Coalition of Rural Wireless Carriers, Carri Bennet, on behalf of Rural Wireless Association, Inc. and Jill Canfield, on behalf of NTCA-The Rural Broadband Association, Matthew B. Gerst, on behalf of CTIA and Maurita Coley, on behalf of Multicultural Media, Telecom and internet Council Convenors, 5G Fund Supporters.

DATES: Oppositions to the Petitions must be filed on or before February 8, 2021. Replies to an opposition must be filed on or before February 16, 2021.

ADDRESSES: Federal Communications Commission, 45 L Street NE, Washington, DC 20554.

FOR FURTHER INFORMATION CONTACT: Valerie M. Barrish, Auctions Division, Office of Economics and Analytics, (202) 418-0660 or Valerie.Barrish@fcc.gov.

SUPPLEMENTARY INFORMATION: This is a summary of the Commission's document, Report No. 3165, released January 6, 2021. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Establishing a 5G Fund for Rural America, FCC 20-150, published at 85 FR 75770, November 25, 2020, in GN Docket No. 20-32. This document is being published pursuant to 47 CFR 1.429(e). See also 47 CFR 1.4(b)(1) and 1.429(f), (g).

Number of Petitions Filed: 5.

Federal Communications Commission.
Marlene Dortch,
Secretary, Office of the Secretary.

[FR Doc. 2021-00464 Filed 1-21-21; 8:45 am]

BILLING CODE 6712-01-P